DEPARTMENT OF ENERGY

Federal Energy Regulatory Commission

Combined Notice of Filings #1

Take notice that the Commission received the following electric corporate filings:

Docket Numbers: EC18-122-000.

Applicants: GridLiance High Plains LLC.

Description: Response to October 11, 2018 Deficiency Letter of GridLiance High Plains LLC.

Filed Date: 11/7/18.

Accession Number: 20181107-5128.

Comments Due: 5 p.m. ET 11/28/18.

Docket Numbers: EC19-24-000.

Applicants: Northern Iowa Windpower LLC, Black Hills Electric Generation, LLC, Black Hills Corporation, Top Deer Wind Ventures, LLC.

Description: Joint Application for Authorization Under Section 203 of the Federal Power Act, et al. of Northern Iowa Windpower LLC, et al.

Filed Date: 11/7/18.

Accession Number: 20181107-5130.

Comments Due: 5 p.m. ET 11/28/18.

Take notice that the Commission received the following electric rate filings:

Docket Numbers: ER19-115-000.

Applicants: FL Solar 5, LLC.

Description: Supplement to October 16, 2018 FL Solar 5, LLC tariff filing.

Filed Date: 11/7/18.

Accession Number: 20181107-5140.

Comments Due: 5 p.m. ET 11/21/18.

Docket Numbers: ER19-302-000.

Applicants: NTE Southeast Electric Company, LLC.

Description: Baseline eTariff Filing: Baseline new to be effective 1/1/2019.

Filed Date: 11/7/18.

Accession Number: 20181107-5114.

Comments Due: 5 p.m. ET 11/28/18.

Docket Numbers: ER19-303-000.

Applicants: Duquesne Light Company.

Description: Application for Incentive Rate Treatment, et al. of Duquesne Light Company.

Filed Date: 11/7/18.

Accession Number: 20181107-5132.

Comments Due: 5 p.m. ET 11/28/18.

Docket Numbers: ER19-304-000.

Applicants: Mid-Atlantic Interstate Transmission, LLC, PJM Interconnection, L.L.C.

Description: § 205(d) Rate Filing: MAIT submits an ECSA, Service Agreement No. 5195 with MetEd to be effective 1/8/2019.

Filed Date: 11/8/18.

Accession Number: 20181108-5026.

Comments Due: 5 p.m. ET 11/29/18.

Docket Numbers: ER19-305-000.

Applicants: PJM Interconnection, L.L.C.

Description: § 205(d) Rate Filing: Rev to Day-ahead Energy Mrkt Timeline Expedited Action Shortened Comment Period to be effective 12/31/9998.

Filed Date: 11/8/18.

Accession Number: 20181108-5032.

Comments Due: 5 p.m. ET 11/15/18.

Docket Numbers: ER19-306-000.

Applicants: Duke Energy Carolinas, LLC.

Description: § 205(d) Rate Filing: DEC-NCEMC NITSA (SA No. 210) Amendment to be effective 1/1/2019.

Filed Date: 11/8/18.

Accession Number: 20181108-5099.

Comments Due: 5 p.m. ET 11/29/18.

Docket Numbers: ER19-307-000.

Applicants: Hudson Shore Energy Partners LLC.

Description: § 205(d) Rate Filing: Notice of Succssion to be effective 11/9/2018.

Filed Date: 11/8/18.

Accession Number: 20181108-5111.

Comments Due: 5 p.m. ET 11/29/18.

Docket Numbers: ER19-308-000.

Applicants: California Independent System Operator Corporation.

Description: Petition for Approval of Disposition of Proceeds of Penalty Assessments of California Independent System Operator Corporation.

Filed Date: 11/8/18.

Accession Number: 20181108-5116.

Comments Due: 5 p.m. ET 11/29/18.

Docket Numbers: ER19-309-000.

Applicants: ISO New England Inc., NSTAR Electric Company.

Description: § 205(d) Rate Filing: ISO-NE and NSTAR; Original Service Agreement under Schedule 21-ES of the OATT to be effective 1/7/2019.

Filed Date: 11/8/18.

Accession Number: 20181108-5122.

Comments Due: 5 p.m. ET 11/29/18.

Docket Numbers: ER19-310-000.

Applicants: Midcontinent Independent System Operator, Inc.

Description: § 205(d) Rate Filing: 2018-11-08_SA 3200 Sholes Wind-MidAmerican FCA (C027) to be effective 10/25/2018.

Filed Date: 11/8/18.

Accession Number: 20181108-5124.

Comments Due: 5 p.m. ET 11/29/18.

Docket Numbers: ER19-311-000.

Applicants: Midcontinent Independent System Operator, Inc.

Description: § 205(d) Rate Filing: 2018-11-08_SA 3201 Shiawassee Wind-METC GIA (J602) to be effective 10/25/2018.

Filed Date: 11/8/18.

Accession Number: 20181108-5155.

Comments Due: 5 p.m. ET 11/29/18.

Docket Numbers: ER19-312-000.

Applicants: Cedar Creek Wind Energy, LLC.

Description: § 205(d) Rate Filing: Category 2 Notice for NW Region and Revised Market-Based Rate Tariff to be effective 11/9/2018.

Filed Date: 11/8/18.

Accession Number: 20181108-5161.

Comments Due: 5 p.m. ET 11/29/18.

Take notice that the Commission received the following foreign utility company status filings:

Docket Numbers: FC19-1-000.

Applicants: I Squared Capital.

Description: Notification of Self-Certification of Foreign Utility Company Status of the Ibereolica Solar Companies.

Filed Date: 11/8/18.

Accession Number: 20181108-5081.

Comments Due: 5 p.m. ET 11/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2018.
Nathaniel J. Davis, Sr.,
Deputy Secretary.

[FR Doc. 2018-24882 Filed 11-14-18; 8:45 am]

BILLING CODE 6717-01-P